DEPARTMENT OF HEALTH AND HUMAN SERVICES

National Institutes of Health

Prospective Grant of Co-Exclusive License: Homogeneous Tests for Sequentially Determining Lipoprotein Fractions

Correction

In notice document 01-4618 beginning on page 11595 in the issue of Monday, February 26, 2001, make the following corrections:

1. On page 11595, in the third column, under the heading SUMMARY, in the seventh line, after “co-exclusive” add “license”.

2. On page 11595, in the third column, under the heading SUMMARY, in the ninth line “(60/136,709” should read “60/136,709”.

[FR Doc. C1-4618 Filed 3-2-01; 8:45 am]

BILLING CODE 1505-01-D